DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of June 2006.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issued a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-59,457; James and Sons Neckwear, Inc., Sewell, NJ: May 16, 2005

The following certifications have been issued. The requirements of Section 222(a)(2)(B) (shift in production) of the Trade Act have been met.

TA-W-59,493; Titan Plastics Group, Tech Center, Portage, MI: November 6, 2005

The following certifications have been issued. The requirements of Section 222(b) (supplier to a firm whose workers are certified eligible to apply for TAA) of the Trade Act have been met.

TA-W-59,551; Advanced Casting, Inc., On-Site Temp Depot, Central Falls, RI: June 1, 2005

TA-W-59,431; Mag, Inc., Martinsville, IN: May 18, 2005

TA-W-59,369; 3M Precision Optics, Cincinnati, OH: May 13, 2005

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-59,522; InBev USA, dba Latrobe Brewing Co., Latrobe, PA: June 5, 2005

TA-W-59,402; McArthur Processional, Inc., Professional Towel Mills Division, Abbeville, SC: May 15, 2005

TA-W-59,335; Smead Manufacturing Co., Logan Plant Division, Logan, OH: December 23, 2005

TA-W-59,282; Lyon Workspace Products, Div. of L&D Group, Montgomery, IL: April 5, 2005

TA-W-59,557; GFP Strandwood Corp., Hancock, MI: June 12, 2005

TA-W-59,524; Chardon Rubber Company (The), Alliance, OH: June 2, 2005

TA-W-59,507; Tower Automotive Michigan, LLC, Greenville Business Unit Division, Greenville, MI: May 22, 2005

TA-W-59,478; Maytag International, Subsidiary of Whirlpool Corporation, Schaumburg, IL: May 25, 2005

TA-W-59,428; A.W. Bohanan Company, Dallas, NC: May 17, 2005

TA-W-59,381; Shieldalloy Metallurgical Corp., Metallurg, Inc., Newfield, NJ: May 11, 2005

TA-W-59,337; Carolina Mills Inc, Plant #1, Maiden, NC: May 4, 2005

TA-W-59,274; Memphis Hardwood Flooring, Memphis, TN: April 24, 2005

TA-W-59,260; Capital City Press, Inc., Printing Division, Berlin, VT: April 14, 2005

TA-W-58,985; Bristol Compressors, A Subsidiary of York International, A Johnson Controls Co., Bristol, VA: March 2, 2005

TA-W-58,969; PPLLC Corporation, A Subsidiary of Panel Products, LLC, White City, OR: March 6, 2005

The following certifications have been issued. The requirements of Section 222(a)(2)(B) (shift in production) and Section 246(a)(3)(A)(ii) of the Trade Act have been met.

TA-W-59,595; Comor, Inc., On-Site Leased Workers of M-Ploy, Cochranton, PA: June 19, 2005

TA-W-59,574; Kentucky Derby Hosiery Co., Plant #1 Division, Hickory, NC: June 12, 2005

TA-W-59,572; GFSI, dba Gear for Sports, Bedford, IA: June 14, 2005

TA-W-59,567; General Electric Dothan Motor Plant, Consumer and Industrial Division, Dothan, AL: June 13, 2005

TA-W-59,563; Distinctive Designs Furniture USA, Sewing Department, Granite Falls, NC: June 12, 2005

TA-W-59,537A; Maxtor Corporation, MMTechnology Div., Fremont, CA: June 8, 2005

TA-W-59,537; Maxtor Corporation, MMTechnology Div., San Jose, CA: June 8, 2005

TA-W-59,514; Bob Barker Co. Inc., Fuquay-Varina, NC: June 1, 2005

TA-W-59,493; Titan Plastics Group, Tech Center, Portage, MI: November 6, 2005

TA-W-59,476; Paxar Americas, Inc., A Subsidiary of Paxar Corp., Rock Hill, SC: May 26, 2005

TA-W-59,550; FMC Technologies, Inc., Energy Processing Division, Homer City, PA: May 22, 2005

The following certifications have been issued. The requirements of Section 222(b) (supplier to a firm whose workers are certified eligible to apply for TAA) and Section 246(a)(3)(A)(ii) of the Trade Act have been met.

TA-W-59,551; Advanced Casting, Inc., on-site Temp Depot, Central Falls, RI: June 1, 2005

TA-W-59,543C; Georgia-Pacific Corp., Fort James Operating Co., Wood & Fiber Supply Div., Houlton, ME: June 9, 2005

TA-W-59,543B; Georgia-Pacific Corp., Fort James Operating Co., Wood & Fiber Supply Div., Milford, ME: June 9, 2005

TA-W-59,543A; Georgia-Pacific Corp., Fort James Operating Co., Wood & Fiber Supply Div., Milo, ME: June 9, 2005

TA-W-59,543; Georgia-Pacific Corp., Fort James Operating Co., Wood & Fiber Supply Div., Portage, ME: June 9, 2005

TA-W-59,519; Pixley Richards Inc., Wyoming, MI: June 6, 2005

TA-W-59,410; Ameritex Yarn LLC, Burlington, NC: May 7, 2005

TA-W-59,336; Carolina Mills, Inc, Plant 12, Statesville, NC: May 4, 2005

TA-W-59,330; Carolina Mills, Inc., Plant No. 6, Lincolnton, NC: May 4, 2005

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department as determined that criterion (1) of Section 246 has not been met. Workers at the firm are 50 years of age or older.

TA-W-59,551; Advanced Casting, Inc., on-site Temp Depot, Central Falls, RI

TA-W-59,457; James and Sons Neckwear, Inc., Sewell, NJ

The Department as determined that criterion (2) of Section 246 has not been met. Workers at the firm possess skills that are easily transferable.

TA-W-59,431; Mag, Inc., Martinsville, IN

TA-W-59,369; 3M Precision Optics, Cincinnati, OH

TA-W-59,493; Titan Plastics Group, Tech Center, Portage, MI: November 6, 2005

The Department as determined that criterion (3) of Section 246 has not been met. Competition conditions within the workers' industry are not adverse.

None

Negative Determinations for Worker Adjustment Assistance and Alternative Trade Adjustment Assistance

In the following cases, the investigation revealed that the eligibility criteria for worker adjustment assistance have not been met for the reasons specified.

Since the workers of the firm are denied eligibility to apply for TAA, the workers cannot be certified eligible for ATAA.

The investigation revealed that criteria (a)(2)(A)(I.A.) and (a)(2)(B)(II.A.) (employment decline) have not been met.

None

The investigation revealed that criteria (a)(2)(A)(I.B.) (Sales or production, or both, did not decline) and (a)(2)(B)(II.B.) (shift in production to a foreign country) have not been met.

TA-W-59,565; GN Hearing Care North America, Bloomington, MN

TA-W-59,555; Michaels of Oregon, Meridian, ID

The investigation revealed that criteria (a)(2)(A)(I.C.) (increased imports) and (a)(2)(B)(II.B.) (shift in production to a foreign country) have not been met.

TA-W-59,561; Jones Apparel Group Inc., Bristol Production Departments, Bristol, PA

TA-W-59,552; Admiral Foundry, Formerly the Admiral Machine Co., Wadsworth, OH

TA-W-59,468; Intier Automotive Seating, Warren, OH

TA-W-59,435; Propex Fabrics, Inc., Seneca, SC

TA-W-59,434; Royal Cord, Inc., Thomaston, GA

TA-W-59,339; Northern Technologies Mfg. Corp., Pocahontas, AR

TA-W-59,228; North American Communications, Duncansville, PA

The investigation revealed that the predominate cause of worker separations is unrelated to criteria (a)(2)(A)(I.C.) (increased imports) and (a)(2)(B)(II.C) (shift in production to a foreign country).

TA-W-59,422; Unifi, Inc., Plant #4, Reidsville, NC

TA-W-59,307; Royal Oak Enterprises, Jacksonville, TX

The workers' firm does not produce an article as required for certification under Section 222 of the Trade Act of 1974.

TA-W-59,559; ExpressPoint Technology Services, Lincolnton, CA

TA-W-59,556; ATA Airlines, Inc., Reservations Call Center, Indianapolis, IN

TA-W-59,539; Safeco Insurance, IT Department, Seattle, WA

TA-W-59,536; Tokui, Inc., Coldwater, MI

TA-W-59,503; Bank of America, Consumer Systems and Support Technology Division, Utica, NY

TA-W-59,501; Firemen's Fund Insurance Company, Allianz AG, Novato, CA

TA-W-59,488; Industrial Design Construction & Aketon Technologies, Working at Hewlett Packard, Portland, OR

TA-W-59,408; WestPoint Stevens, Inc., Drakes Branch, VA

The investigation revealed that criteria of Section 222(b)(2) has not been met. The workers' firm (or subdivision) is not a supplier to or a downstream producer for a firm whose workers were certified eligible to apply for TAA.

None.

I hereby certify that the aforementioned determinations were issued during the month of June 2006. Copies of These determinations are available for inspection in Room C-5311, U.S. Department of Labor, 200 Constitution Avenue, NW., Washington, DC 20210 during normal business hours or will be mailed to persons who write to the above address.

Dated: July 10, 2006.
Richard Church,
Acting Director, Division of Trade Adjustment Assistance.

[FR Doc. E6-11219 Filed 7-14-06; 8:45 am]

BILLING CODE 4510-30-P